DEPARTMENT OF THE INTERIOR

Bureau of Indian Affairs

Renewal of Agency Information Collection for Grazing Permits; Request for Comments

AGENCY: Bureau of Indian Affairs, Interior.

ACTION: Notice of Submission to the Office of Management and Budget.

SUMMARY: As required by the Paperwork Reduction Act, the Bureau of Indian Affairs (BIA) is submitting the information collection, titled “Grazing Permits, 25 CFR 166” to the Office of Management and Budget (OMB) for renewal. The information collection is currently authorized by OMB Control Number 1076-0157, which expires April 30, 2010. The information collection requires anyone seeking to obtain, modify, or assign a grazing permit for grazing on Indian trust or restricted land to submit certain information for review by the BIA.

DATES: Interested persons are invited to submit comments on or before June 1, 2010.

ADDRESSES: You may submit comments on the information collection to the Desk Officer for Department of the Interior at the Office of Management and Budget, by facsimile to (202) 395-5806 or you may send an e-mail to: OIRA_DOCKET@ omb.eop.gov. Please send a copy of your comments to David Edington, Office of Trust Services, Bureau of Indian Affairs, Department of the Interior, 1849 C Street, NW., Mail Stop 4655, Washington, DC 20240, facsimile: (202) 219-0006, or e-mail David.Edington@bia.gov.

FOR FURTHER INFORMATION CONTACT: You may request further information or obtain copies of the information collection request submission from David Edington, telephone: (202) 513-0886.

SUPPLEMENTARY INFORMATION:

I. Abstract

The BIA is seeking renewal and revision of the information collection conducted under 25 CFR part 166, related to grazing on trust or restricted land. This information collection allows BIA to receive the information necessary to determine whether an applicant to obtain, modify, or assign a grazing permit on trust or restricted lands is eligible and complies with all applicable grazing requirements. Some of this information is collected on forms that are being revised or newly instituted. Currently approved forms have been updated to simplify language and update regulatory citations. New forms have been put in place to implement existing regulatory requirements. No third party notification or public disclosure burden is associated with this collection. Adjustments were made to the approved burden hours for this information collection to better account for the process of obtaining a grazing permit and to account for previously unidentified information collection requirements contained in existing regulatory requirements.

II. Request for Comments

The BIA published a notice seeking public comment on February 25, 2010. See 75 FR 8731. No comments were received in response to that notice. The BIA requests that you send your comments on this collection to the locations listed in the ADDRESSES section. Your comments should address: (a) The necessity of the information collection for the proper performance of the agencies, including whether the information will have practical utility; (b) the accuracy of the agencies' estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the BIA location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0157.

Title: Grazing Permits, 25 CFR 166.

Brief Description of Collection: Submission of this information allows individuals or organizations to obtain a grazing permit on trust or restricted land and provide notice with regard to land that is the subject of a grazing permit. This information collection also allows individual Indians to provide authority to BIA to grant grazing privileges on allotments they own. Some of this information is collected on the following forms: Form 5-5423—Performance Bond, Form 5-5514—Bid for Grazing Privileges, Form 5-5515—Grazing Permit, Form 5-5516—Grazing Permit for Organized Tribes, Form 5-5519—Cash Penal Bond, Form 5-5521—Certificate and Application for On-and-Off Grazing Permit, Form 5522—Modification of Grazing Permit, Form 5-5523—Assignment of Grazing Permit, Form 5-5524—Application for Allocation of Grazing Privileges, Form 5-5525—Authority to Grant Grazing Privileges on Allotted Lands, Form 5-5527—Stock Counting Record, and Form 5-5529—Removable Range Improvement Records. Response is required to obtain or retain a benefit.

Type of Review: Revision of a currently approved collection.

Respondents: Tribes, tribal organizations, individual Indians, and non-Indian individuals.

Number of Respondents: 8,200 individual Indian allottee landowners and 1,000 tribes, tribal organizations, and individuals.

Total Number of Responses: 12,820.

Estimated Time per Response: 20 minutes.

Estimated Total Annual Burden: 4,272 hours.

Total Annual Non-Hour Cost to Respondents: $0.

Alvin Foster,
Chief Information Officer—Indian Affairs.

[FR Doc. 2010-9886 Filed 4-28-10; 8:45 am]

BILLING CODE 4310-4J-P